DEPARTMENT OF DEFENSE

Office of the Secretary

[Docket ID: DoD-2022-OS-0068]

Proposed Collection; Comment Request

AGENCY: Office of the Under Secretary of Defense for Personnel and Readiness (OUSD(P&R)), Department of Defense (DoD).

ACTION: 60-day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 9, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION:

Title; Associated Form; and OMB Number: Boren Scholarship and Fellowship Survey; OMB Control Number 0704-BSFS.

Needs and Uses: The Defense Language and National Security Education Office (DLNSEO) of the DoD is requesting Office of Management and Budget clearance for the Boren Scholarship and Fellowship Survey. DLNSEO has contracted with the RAND Corporation to conduct an evaluation of the Boren Scholarship and Fellowship Awards Program.

The Boren Awards program, established in 1991, was authorized under the David L. Boren National Security Education Act, as amended, Public Law 102-183. The Boren Awards provide funding for long-term, overseas, immersive study to U.S. undergraduate and graduate students who are committed to public service. Boren awardees study languages and cultures that are critical to U.S. national security as part of their degree programs; in exchange, they agree to use the skills within DoD or other federal agencies by seeking and securing federal employment for at least one year after completing their degrees.

The Boren Awards program was last evaluated in 2014 using a survey and interviews to determine how the program had affected the careers of those who had received Boren awards. Since the 2014 survey, more than 2,000 new Boren awardees have completed the federal employment service commitment, yielding an alumni base of more than 4,000. The OUSD(P&R) contracted with the RAND National Defense Research Institute to conduct a new program evaluation, which would include a web-based survey of alumni, discussions with key stakeholders, and comparison of past data with new data to be collected during this project. The findings will support the OUSD(P&R) in evaluating the outcomes of the program, enabling comparisons between past and more-recent outcomes, and ultimately enhancing the Boren Awards' effectiveness in building and sustaining a federal workforce of diverse, language and culture-enabled individuals.

Affected Public: Individuals or households.

Annual Burden Hours: 649.5 hours.

Number of Respondents: 1,299.

Responses per Respondent: 1.

Annual Responses: 1,299.

Average Burden per Response: 30 minutes.

Frequency: Once.

Dated: June 2, 2022.
Aaron T. Siegel,
Alternate OSD Federal Register Liaison Officer, Department of Defense.

[FR Doc. 2022-12491 Filed 6-9-22; 8:45 am]

BILLING CODE 5001-06-P